DEPARTMENT OF TRANSPORTATION

Federal Motor Carrier Safety Administration

[Docket No. FMCSA-2005-20721; FMCSA-2009-0174; FMCSA-2013-0020; FMCSA-2015-0064; FMCSA-2015-0065; FMCSA-2015-0066]

Qualification of Drivers; Exemption Applications; Diabetes

AGENCY: Federal Motor Carrier Safety Administration (FMCSA), DOT.

ACTION: Notice of final disposition.

SUMMARY: FMCSA announces its decision to renew exemptions for 121 individuals from its prohibition in the Federal Motor Carrier Safety Regulations (FMCSRs) against persons with insulin-treated diabetes mellitus (ITDM) from operating commercial motor vehicles (CMVs) in interstate commerce. The exemptions enable these individuals with ITDM to continue to operate CMVs in interstate commerce.

DATES: Each group of renewed exemptions were applicable on the dates stated in the discussions below and will expire on the dates stated in the discussions below.

FOR FURTHER INFORMATION CONTACT: Ms. Christine A. Hydock, Chief, Medical Programs Division, 202-366-4001, fmcsamedical@dot.gov, FMCSA, Department of Transportation, 1200 New Jersey Avenue SE, Room W64-224, Washington, DC 20590-0001. Office hours are from 8:30 a.m. to 5:30 p.m., e.t., Monday through Friday, except Federal holidays. If you have questions regarding viewing or submitting material to the docket, contact Docket Services, telephone (202) 366-9826.

SUPPLEMENTARY INFORMATION:

I. Electronic Access

You may see all the comments online through the Federal Document Management System (FDMS) at: http://www.regulations.gov.

Docket: For access to the docket to read background documents or comments, go to http://www.regulations.gov and/or Room W12-140 on the ground level of the West Building, 1200 New Jersey Avenue SE, Washington, DC, between 9 a.m. and 5 p.m., e.t., Monday through Friday, except Federal holidays.

Privacy Act: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

II. Background

On August 22, 2017, FMCSA published a notice announcing its decision to renew exemptions for 121 individuals from the insulin-treated diabetes mellitus prohibition in 49 CFR 391.41(b)(3) to operate a CMV in interstate commerce and requested comments from the public (82 FR 39943). The public comment period ended on September 21, 2017 and two comments were received.

As stated in the previous notice, FMCSA has evaluated the eligibility of these applicants and determined that renewing these exemptions would achieve a level of safety equivalent to or greater than the level that would be achieved by complying with the current regulation 49 CFR 391.41(b)(3).

The physical qualification standard for drivers regarding diabetes found in 49 CFR 391.41(b)(3) states that a person is physically qualified to drive a CMV if that person has no established medical history or clinical diagnosis of diabetes mellitus currently requiring insulin for control.

III. Discussion of Comments

FMCSA received two comments in this preceding. Perdro Fravien asked if these drivers were type 1 or type 2 diabetics. He stated that the drivers should be type 1 because if they don't have immediate access to medication it may cause an accident. Amber Brooks commented that FMCSA “wants to disallow the issuance of drivers licenses to commercial vehicles”. She referred to several studies on diabetes. FMCSA has evaluated the eligibility of the 121 applicants and determined that granting the exemptions to these individuals would achieve a level of safety equivalent to or greater than the level that would be achieved by complying with the current regulation 49 CFR 391.41(b)(3).

IV. Conclusion

Based upon its evaluation of the 121 renewal exemption applications and comments received, FMCSA confirms its' decision to exempt the following drivers from the rule prohibiting drivers with ITDM from driving CMVs in interstate commerce in 49 CFR 391.64(3):

As of September 2, 2017, and in accordance with 49 U.S.C. 31136(e) and 31315, the following three individuals have satisfied the renewal conditions for obtaining an exemption from the rule prohibiting drivers with ITDM from driving CMVs in interstate commerce (70 FR 23898; 70 FR 52465): Lee R. Kumm (WI), Mitchell L. Pullen (NE), Steven R. Zoller (MN).

The drivers were included in docket number FMCSA-2005-20721. Their exemptions are applicable as of September 2, 2017, and will expire on September 2, 2019.

As of September 9, 2017, and in accordance with 49 U.S.C. 31136(e) and 31315, the following 28 individuals have satisfied the renewal conditions for obtaining an exemption from the rule prohibiting drivers with ITDM from driving CMVs in interstate commerce (80 FR 47024; 80 FR 79411):

Earl H. Andreas (PA)

Kristopher K. Bitting (PA)

Eric A. Bouldin (TX)

Victor Carranza (IA)

Steven A. Casavant (RI)

Justin M. Coffey (KY)

Steven W. Conrad, Jr. (PA)

Jeremy L. Demar (MN)

Anthony C. Eavenson (NM)

Markie Q. Elsey (MD)

Michael W. Finnegan (NJ)

Gale A. Gallagher (IL)

Scott E. Gallagher (VA)

David L. Hareland (MN)

Brian C. Kenerson (NH)

Garrett P. Lockwood (IN)

Sean P. McNally (AZ)

Ryan A. McNaught (FL)

Paul R. Monfils (RI)

Bryan Moser (AR)

Anthony J. Nault (NH)

Alvin W. Peck, Jr. (SD)

Kenneth W. Romjue (OK)

Randy E. Smith (PA)

Curtis G. Taylor (WA)

Jacob F.M. Tucker (UT)

Joseph T. Webb, Jr. (NH)

Douglas L. Zerkle (OH)

The drivers were included in docket number FMCSA-2015-0064. Their exemptions are applicable as of September 9, 2017, and will expire on September 9, 2019.

As of September 12, 2017, and in accordance with 49 U.S.C. 31136(e) and 31315, the following 29 individuals have satisfied the renewal conditions for obtaining an exemption from the rule prohibiting drivers with ITDM from driving CMVs in interstate commerce (80 FR 48396; 80 FR 77079):

Reynaldo R. Amaro (TX)

Brandon C. Bair (NV)

James K. Copley (WV)

Richard L. Corzine (IL)

Kevin D. Crouse (CA)

Thomas A. Draper (CA)

John J. Fortman (ND)

Jamey M. George (MO)

Matthew Harkanson (PA)

Kenneth P. Hazel (NM)

Tracy D. Henderson (NM)

Gary H. Jacobs (VT)

Jack L. Lane Jr. (KS)

Thomas J. Leffingwell (NY)

Donald R. Meckley, Jr. (MD)

Jeffrey K. Moore (KY)

Sidney T. Nalley, Jr. (GA)

Jason B. Nolte (IN)

James G. Pruitt (MO)

Thomas V. Ransom (ID)

Raymond D. Reber (IN)

Jackson A. Savarese (CA)

Richard A. Sawyer (ME)

Bruno T. Schizzano (NY)

Christopher S. Seago (NE)

Joseph W. Sprague (NM)

Derrick L. Vaughan (TX)

Anthony J. Vicario (NY)

Henry D. Yeska III (PA)

The drivers were included in docket number FMCSA-2015-0065. Their exemptions are applicable as of September 12, 2017, and will expire on September 12, 2019.

As of September 17, 2017, and in accordance with 49 U.S.C. 31136(e) and 31315, the following 40 individuals have satisfied the renewal conditions for obtaining an exemption from the rule prohibiting drivers with ITDM from driving CMVs in interstate commerce (80 FR 49304; 80 FR 79399):

Joshua E. Adkins (KS)

Rosendo R. Amador (TX)

George H. Bonney, Jr. (NH)

John J. D'Agostino (NJ)

James R. Ditman (IN)

Eric D. Egan (IL)

Walter R. Elser (VT)

Ryan S. Farrell (MA)

Patrick F. Felix (WI)

Jermaine Galle (GA)

Gary A. Gross (SD)

Terry L. Guynes (MO)

Colin W. Hale (NY)

Clarence Hill (NY)

Marcus Hughes (GA)

Michael C. Lewis (SD)

Robert L. Moberly (OR)

Jason L. Montgomery (WA)

John F. Mortieau (MT)

Alexander Musalin (WA)

Clark E. Najac (NY)

Matthew S. Ness (WI)

Andrew T. Oezer (MI)

Vanja Pazin (OR)

Troy A. Pearl (WA)

Randell J. Pecenka (IA)

Leonard M. Radford (IN)

Jerry J. Rava (CA)

William J. Rixon Jr. (NJ)

Matias Rodriguez Jr. (CT)

William J. Schrade (CT)

John W. Schwirian (PA)

Shain L. Simpson (UT)

Neil E. Smith (KS)

Joey F. Starnes (AL)

Joshua R. Stieb (CO)

Donald L. Strand (MT)

Rick L. Vosburg (CA)

William G. Wressell (WA)

Randy P. Young (IN)

The drivers were included in docket number FMCSA-2015-0066. Their exemptions are applicable as of September 17, 2017, and will expire on September 17, 2019.

As of September 18, 2017, and in accordance with 49 U.S.C. 31136(e) and 31315, the following six individuals have satisfied the renewal conditions for obtaining an exemption from the rule prohibiting drivers with ITDM from driving CMVs in interstate commerce (78 FR 38439; 78 FR 60014):

Larry K. Brindle (KS)

Donald F. Kurzejewski (PA)

Joshua O. Lilly (VA)

Steven C. Lundberg (IA)

Roger D. Mott (IA)

Christopher J. Wisner (MD)

The drivers were included in docket number FMCSA-2013-0020. Their exemptions are applicable as of September 18, 2017, and will expire on September 18, 2019.

As of September 22, 2017, and in accordance with 49 U.S.C. 31136(e) and 31315, the following 15 individuals have satisfied the renewal conditions for obtaining an exemption from the rule prohibiting drivers with ITDM from driving CMVs in interstate commerce (74 FR 37288; 74 FR 48641):

Michael F. Arthur (ME)

Roelf F. Aufforth (MN)

Christopher S. Cate (NH)

Raymond A. Dietz (FL)

Steven C. Ellenberger (NE)

Dori A. Hoffmann (NE)

William C. Howard (VA)

Steven A. Mayhew (NY)

Michael G. Mulder (MN)

Bradley D. Nickles, Jr. (NH)

Frank A. Rhodes (WI)

James B. Roth (IL)

Matthew T. Russell (TN)

Tranquilino D. Sena (NM)

John A. Serth, Jr. (NY)

The drivers were included in docket number FMCSA-2009-0174. Their exemptions are applicable as of September 22, 2017, and will expire on September 22, 2019.

In accordance with 49 U.S.C. 31315, each exemption will be valid for two years from the effective date unless revoked earlier by FMCSA. The exemption will be revoked if the following occurs: (1) The person fails to comply with the terms and conditions of the exemption; (2) the exemption has resulted in a lower level of safety than was maintained prior to being granted; or (3) continuation of the exemption would not be consistent with the goals and objectives of 49 U.S.C. 31136 and 31315.

Issued on: December 6, 2017.
Larry W. Minor,
Associate Administrator for Policy.

[FR Doc. 2017-26872 Filed 12-12-17; 8:45 am]

BILLING CODE 4910-EX-P